FEDERAL COMMUNICATIONS COMMISSION

47 CFR Part 90

[PS Docket No. 15-199; FCC 16-113]

Railroad Police Officers To Access Public Safety Interoperability and Mutual Aid Channels

AGENCY: Federal Communications Commission.

ACTION: Final rule.

SUMMARY: In this document, the Federal Communications Commission (Commission) provides railroad police officers access to the public safety interoperability channels. In this document, we amend our rules to permit railroad police officers to use public safety interoperability channels to communicate with public safety entities already authorized to use those channels. Specifically, we permit railroad police officers empowered to carry out law enforcement functions to use public safety interoperability channels in the VHF (150-174 MHz, and 220-222 MHz, UHF (450-470 MHz), 700 MHz narrowband (769-775/799-805 MHz)5 and 800 MHz National Public Safety Planning Advisory Committee (NPSPAC) bands (806-809/851-854 MHz). Allowing railroad police officers to use these channels will promote interoperability, facilitate improved emergency response in railroad-related emergencies, and streamline access to these channels for emergency public safety communications.

DATES: Effective October 28, 2016, except for section 90.20(a)(2)(xiv) which contain new or modified information collection requirements that require approval by the Office of Management and Budget under the Paperwork Reduction Act of 1995. The Federal Communications Commission will publish a document in the Federal Register announcing such approval and effective date.

FOR FURTHER INFORMATION CONTACT: John Evanoff, Policy and Licensing Division, Public Safety and Homeland Security Bureau, (202) 418-0848 or john.evanoff@fcc.gov.

SUPPLEMENTARY INFORMATION: This is a summary of the Commission's Report and Order in PS Docket No. 15-199, FCC 16-113, released on August 23, 2016. The document is available for download at http://fjallfoss.fcc.gov/edocs_public/. The complete text of this document is also available for inspection and copying during normal business hours in the FCC Reference Information Center, Portals II, 445 12th Street SW., Room CY-A257, Washington, DC 20554. To request materials in accessible formats for people with disabilities (Braille, large print, electronic files, audio format), send an email to FCC504@fcc.gov or call the Consumer & Governmental Affairs Bureau at 202-418-0530 (voice), 202-418-0432 (TTY).

In the Report and Order we amend the Commission's rules to permit railroad police officers to use public safety interoperability channels to communicate with public safety entities already authorized to use those channels. Specifically, we permit railroad police officers empowered to carry out law enforcement functions to use public safety interoperability channels in the VHF (150-174 MHz, and 220-222 MHz, UHF (450-470 MHz), 700 MHz narrowband (769-775/799-805 MHz) and 800 MHz National Public Safety Planning Advisory Committee (NPSPAC) bands (806-809/851-854 MHz). Allowing railroad police officers to use these channels will promote interoperability, facilitate improved emergency response in railroad-related emergencies, and streamline access to these channels for emergency public safety communications.

Procedural Matters

A. Final Regulatory Flexibility Analysis

As required by the Regulatory Flexibility Act of 1980, as amended (RFA) the Commission prepared this Final Regulatory Flexibility Analysis (FRFA) of the possible significant economic impact on a substantial number of small entities by the policies and rules adopted in this Report and Order. The Commission will send a copy of the Report and Order, including this FRFA, to the Chief Counsel for Advocacy of the Small Business Administration (SBA). In addition, the Report and Order and FRFA (or summaries thereof) will be published in the Federal Register.

B. Need for, and Objectives of, the Proposed Rules

The Report and Order amends the Part 90 rules to facilitate railroad police access to public safety interoperability channels. Specifically, in response to a Petition for Rulemaking filed by the National Public Safety Telecommunications Council (NPSTC), the Commission issued a Notice of Proposed Rulemaking seeking comment on expanding eligibility to allow railroad police officers as defined by Federal Railroad Administration (FRA) to operate on public safety interoperability channels in the VHF, (including 220-222 MHz), UHF, 700 MHz narrowband and 800 MHz bands. Commenters were supportive of the NPRM proposals. Therefore, in light of the record, the Report and Order amends the Part 90 eligibility and licensing rules applicable to public safety interoperability spectrum.

As discussed in Sections D and E of this FRFA, the Commission has endeavored to keep the burdens associated with these rule changes as simple and minimal as possible. The Report and Order requires employers of railroad police officers to obtain authorization to operate on the 700 MHz interoperability channels as required by sections 90.523 and 90.525 of the Commission's rules and section 337(f)(1) of the Communications Act of 1934, as amended. Further, the Report and Order, requires employers of railroad police officers seeking to license the interoperability channels to obtain frequency coordination and submit a license application in order to operate base and control stations on interoperability channels. Additionally, the Report and Order adopts several alternatives to licensing fixed infrastructure on the interoperability channels in order to minimize the burden on railroad police and provide flexibility in achieving interoperability with public safety, as discussed in Section E of the FRFA. Finally, we update section 90.20 of the Commission's rules to explicitly identify the nationwide interoperability channels to facilitate interoperability among Federal, State, Local, Tribal and Railroad Police entities.

C. Estimate of the Number of Small Entities to Which the Proposed Rules Will Apply

The RFA directs agencies to provide a description of and, where feasible, an estimate of the number of small entities that may be affected by the proposed rules, if adopted. The RFA generally defines the term “small entity” as having the same meaning as the terms “small business,” “small organization,” and “small governmental jurisdiction.” “Small governmental jurisdiction” generally means “governments of cities, counties, towns, townships, villages, school districts, or special districts, with a population of less than 50,000.” The official count of local governments in the United States for 2012 was 90,056, comprising 38,910 general-purpose governments and 51,146 special-purpose governments. General purpose governments include those classified as counties, municipalities, and townships. For this category, census data for 2012 show that there were approximately 37,132 counties, cities and towns that have populations of fewer than 50,000. In addition, the term “small business” has the same meaning as the term “small business concern” under the Small Business Act. A small business concern is one which: (1) Is independently owned and operated; (2) is not dominant in its field of operation; and (3) satisfies any additional criteria established by the SBA. Below, we describe and estimate the number of small entities that may be affected by the rules changes adopted in this Report and Order.

Private Land Mobile Radio Licensees. PLMR systems serve an essential role in a range of industrial, business, land transportation, and public safety activities. These radios are used by companies of all sizes operating in all U.S. business categories, and are often used in support of the licensee's primary (non-telecommunications) business operations. Because of the vast array of PLMR users, which includes railroads, the Commission has not developed a small business size standard specifically applicable to PLMR users. The SBA rules, however, contain a definition for Wireless Telecommunications Carriers (except Satellite) which encompasses business entities engaged in radiotelephone communications employing no more than 1,500 persons. For this category, census data for 2007 show that there were 11,163 establishments that operated for the entire year. Of this total, 10,791 establishments had employment of 999 or fewer employees and 372 had employment of 1000 employees or more. Under this category and the associated small business size standard, the Commission estimates that the majority of wireless telecommunications carriers (except satellite) are small entities. The Commission, however, does not require PLMR licensees to disclose information about number of employees, so the Commission does not have information that could be used to determine how many PLMR licensees constitute small entities under this definition. We note that PLMR licensees generally use the licensed facilities in support of other business activities, and therefore, it would also be helpful to assess PLMR licensees under the standards applied to the particular industry subsector to which the licensee belongs.

Public Safety Radio Pool Licensees. As a general matter, Public Safety Radio Pool licensees include police, fire, local government, forestry conservation, highway maintenance, and emergency medical services. Spectrum in the 700 MHz band for public safety services is governed by 47 U.S.C. 337. Non-Federal governmental entities may be eligible licensees for these services. All governmental entities with populations of less than 50,000 fall within the definition of a small entity. According to the Commission's records, there were (1) 1,318 public safety licensees licensed on at least one of the VHF and UHF public safety interoperability channels; (2) 59 public safety licensees licensed on at least one of the narrowband interoperability channels in the public safety band between 764-776 MHz/794-806 MHz; and (3) 4,715 public safety licensees operating in the public safety band between 806-809/851-854 MHz (NPSPAC band). In total there are 6,092 public safety entities, including small governmental jurisdictions, licensed to operate on at least one of the interoperability channels.

Class I, Class II, and Class III Railroads. The Report and Order expands eligibility to operate on the interoperability channels to include railroad police employed by a Class I, II, or III railroad, Amtrak, the Alaska Railroad and passenger transit lines as defined by the Surface Transportation Board (STB). The SBA stipulates “size standards” for small entities. It provides that the largest a for-profit railroad business firm may be and still be classified as a “small entity” is 1,500 employees for “Line-Haul” railroads, and 500 employees for “Short-Line” railroads. SBA size standards may be altered by Federal agencies in consultation with SBA, and in conjunction with public comment. Pursuant to the authority provided to it by SBA, the FRA has published a final policy, which formally establishes small entities as railroads that meet the line haulage revenue requirements of a “Class III railroad.” This threshold is based on the s STB's threshold for a Class III railroad carrier, which is adjusted by applying the railroad revenue deflator adjustment. Consistent with FRA's approach, we are using this definition in this Report and Order. Approximately 700 railroads meet the criteria for small entity. We are using this as our estimate of the universe of small entities that could be directly impacted by the rule.

The Report and Order expands eligibility to permit railroad police officers as defined by the FRA to operate on the interoperability channels. The primary beneficiaries of this increased flexibility would be railroads, including small railroads, and PLMR licensees, including small governmental jurisdictions, that have a need to interoperate with each other. The FCC notes that the requirement that railroads obtain governmental authorization to operate on the 700 MHz interoperability channels is statutorily required and the Commission is without authority to exempt railroads from this requirement. Additionally, railroad entities may be required to obtain frequency coordination and submit a license application on FCC Form 601 in order to license, construct and operate base and control stations on the interoperability channels. The Report and Order provides additional flexibility that may reduce the impact on railroad police officers operating on the interoperability channels. Those alternatives are discussed in Section E.

D. Description of Projected Reporting, Recordkeeping, and Other Compliance Requirements

This Report and Order contains modified information collection requirements subject to the Paperwork Reduction Act of 1995 (PRA), Public Law 104-13. It will be submitted to the Office of Management and Budget (OMB) for review under Section 3507(d) of the PRA. The Report and Order provides that railroad police officers who are certified and/or commissioned as a police officer under the laws of any state, in accordance with the regulations issued by the Secretary of the U.S. Department of Transportation and recognized by the Federal Railroad Administration (FRA) should be eligible to operate on the nationwide interoperability channels.

The Report and Order requires employers of railroad police officers to obtain governmental authorization to operate on the 700 MHz interoperability channels as required by sections 90.523 and 90.525 of the Commission's rules and section 337(f)(1) of the Communications Act of 1934, as amended. In accordance with the Paperwork Reduction Act, the Office of Management and Budget (OMB) has already approved the collection of state and local government certifications from non-governmental organizations that seek to operate on the 700 MHz narrowband channels. See ICR Reference Number: 201403-3060-018, OMB Control No. 3060-0805. We do not change the wording of the OMB-approved collection in any material or substantive manner. Only the number of respondents would change as we would expect that employers of railroad police officers will comply with these existing statutory requirements and regulations, which are the minimum necessary to ensure effective use of the spectrum and to minimize interference potential to public safety entities, including State, local and tribal governments. Thus, requiring railroad police to obtain governmental authorization in order to operate on the 700 MHz interoperability channels would increase the number of respondents by approximately 763 entities. See ICR Reference Number: 201308-2130-009, OMB Control No. 2130-0537.

The Report and Order permits the licensing of base and control stations on the interoperability channels. The licensing of base and control stations requires frequency coordination (i.e.), employers of railroad police would be required to submit a license application on Form 601 demonstrating evidence of frequency coordination). Similarly, mobile-only authorizations require frequency coordination and submission of FCC form 601. Railroad entities seeking licenses in the Industrial Land Transportation and Business Pool are required to obtain coordination from certain frequency coordinators specified in section 90.35 of the Commission's rules. However, the interoperability channels are subject to frequency coordination from the four certified public safety frequency coordinators specified in section 90.20(c). OMB has already approved the information collection requirements, including the frequency coordination requirement, associated with Form 601. See ICR Reference Number: 201311-3060-018, OMB Control No. 3060-0798. We do not make any substantive or material changes to the wording of the existing information collection. Instead, we amend the Part 90 eligibility rules to allow employers of railroad police officers to license the interoperability channels, thus increasing the number of respondents subject to the existing information collections by approximately 763 entities.

Additionally, the 700 MHz interoperability channels are administered by State entities and/or regional planning committees (RPC). OMB has already approved the information collections associated with obtaining State/RPC concurrence to operate on the 700 MHz interoperability channels. See ICR Reference Number: 201404-3060-023, OMB Control No. 3060-1198. We do not make any substantive or material changes to the wording of this existing information collection but we allow railroad police to operate on these interoperability channels, thus increasing the number of respondents subject to the existing information collections by approximately 763 entities.

The Report and Order adopts less burdensome alternatives to licensing, constructing and operating base stations and control stations on the interoperability channels. Specifically, the Report and Order allows railroad police officers to (1) operate mobile and portable stations on these channels under a “blanket” licensing approach; (2) allows public safety licensees to share their facilities with railroad police pursuant to a sharing agreement under section 90.179 of the Commission's Rules; and (3) permits railroad police officers to operate mobile stations under a public safety licensee's authorization pursuant to section 90.421, and therefore would not impose any new or modified information collections requirements. However, allowing public safety entities to “share” their facilities with railroad police would require reducing such an arrangement into writing as required by section 90.179. OMB has already approved the information collection requirements in section 90.179 and we do not make any substantive or material changes to the wording of the existing information collection. See ICR Reference Number: 200111-3060-016, OMB Control No. 3060-0262. Thus, the number of respondents would increase by approximately 763 entities.

The Commission believes that applying the same information collection rules equally to public safety and railroad police entities in this context will promote interoperability and advance Congressional objectives. The Commission does not believe that the costs and/or administrative burdens associated with the rules will unduly burden small entities. The rule revisions the Commission adopts benefit public safety and railroad police entities by giving them more flexibility, and more options for gaining access to interoperability spectrum.

However, in the interest of ensuring railroad police coordinate with state and local public safety entities, we require railroad police to obtain concurrence from the relevant state or state-designated interoperability coordinator before operating mobiles or portables on the VHF, (including 220-222 MHz), UHF, 700 MHz narrowband interoperability and 800 MHz mutual aid channels. Employers of railroad police officers shall execute a memorandum of understanding with the state interoperability coordinator. Similarly, we require employers of railroad police officers seeking to license the below-470 MHz interoperability channels to obtain concurrence from the relevant state interoperability coordinator. To facilitate interoperability coordination in the bands below 470 MHz, we provide states the option of administering the below-470 MHz interoperability channels. States may delegate the administration of the below-470 MHz interoperability channels to the existing 700 MHz and 800 MHz Regional Planning Committees.

Finally, the rule amendment proposed relative to section 90.20(i) has been analyzed with respect to the Paperwork Reduction Act of 1980 and found to contain no new or modified form, information collection and/or record keeping, labeling, disclosure, or record retention requirements; and will not increase burden hours imposed on the public.

E. Steps Taken To Minimize Significant Economic Impact on Small Entities, and Significant Alternatives Considered

The RFA requires an agency to describe any significant, specifically small business, alternatives that it has considered in reaching its proposed approach, which may include the following four alternatives (among others): (1) The establishment of differing compliance or reporting requirements or timetables that take into account the resources available to small entities; (2) the clarification, consolidation, or simplification of compliance and reporting requirements under the rule for small entities; (3) the use of performance rather than design standards; and (4) an exemption from coverage of the rule, or any part thereof for small entities. We have evaluated our rule changes in this Report and Order in the context of small business entities and find no alternatives, to the benefit of small entities, that would achieve our goals of facilitating interoperability between public safety entities and railroad police officers and efficient use of nationwide interoperability spectrum. Additionally, the rules adopted in this Report and Order are deregulatory in nature and consistent with Federal railroad interoperability mandates. Accordingly, the rule changes minimize any significant economic impact on small entities.

The Report and Order provides railroad police four alternatives that minimize the impact on small entities, including small railroads. First, the Report and Order permits “blanket licensing”, an approach that allows railroad police officers to operate on the interoperability channels provided their railroad employer already holds a license for PLMR spectrum and subject to coordination with the relevant state interoperability coordinator. Second, the Report and Order permits issuing mobile-only licenses that allow railroad police officers to operate mobiles on the interoperability channels without having to construct and operate base and control stations. Third, the Report and Order clarifies that section 90.421 of the Commission's rules allows railroad police officers to operate mobiles under the license of public safety licensees. Fourth, the Report and Order clarifies that section 90.179 of the Commission's rules permits public safety entities to “share” their facilities with railroad police. No significant alternative was presented in the comments.

Finally, the Report and Order amends section 90.20 of the Commission's rules to explicitly identify the nationwide interoperability channels i.e. the VHF (including 220-222 MHz), UHF and 700 MHz narrowband, and on the 800 MHz mutual aid channels. We believe that flexible licensing policies are necessary to encourage the use of the most spectrally efficient technology to meet user-defined needs. Recognizing the budgetary constraints that small public safety entities face, we provide railroad police officers and public safety a flexible licensing approach to facilitate interoperability.

F. Rules That May Duplicate, Overlap, or Conflict With the Proposed Rules

None.

G. Paperwork Reduction Act of 1995 Analysis

This document contains new and modified information collection requirements subject to the Paperwork Reduction Act of 1995 (PRA), Public Law 104-13. It will be submitted to the Office of Management and Budget (OMB) for review under section 3507(d) of the PRA. OMB, the general public, and other Federal agencies will be invited to comment on the new or modified information collection requirements contained in this proceeding. In addition, we note that pursuant to the Small Business Paperwork Relief Act of 2002, Public Law 107-198, see 44 U.S.C. 3506(c)(4), we previously sought specific comment on how the Commission might further reduce the information collection burden for small business concerns with fewer than 25 employees.

In this present document, we have assessed the effects of expanding railroad police eligibility to access the interoperability channels (i.e. (1) revising the number of respondents subject to certain existing information collection requirements and (2) requiring employers of railroad police officers to enter into memorandum of understanding with state interoperability coordinators), and find that businesses with fewer than 25 employees will not be unduly burdened.

H. Congressional Review Act

The Commission will send a copy of this Order on Reconsideration to Congress and the Government Accountability Office pursuant to the Congressional Review Act, see 5 U.S.C. 801(a)(1)(A).

Ordering Clauses

Accordingly, it is ordered, pursuant to sections 1, 2, 4(i), 4(j), 301, 303, 316, and 337 of the Communications Act of 1934, as amended, 47 U.S.C. 151, 152, 154(i), 154(j), 301, 303, 316, and 337, that this Report and Order is hereby adopted.

It is further ordered that part 90 of the Commission's rules, 47 CFR part 90, is amended, effective October 28, 2016, except that those amendments which contain new or modified information collection requirements that require approval by the Office of Management and Budget under the Paperwork Reduction Act will become effective after the Commission publishes a notice in the Federal Register announcing such approval and the relevant effective date.

It is further ordered that the Final Regulatory Flexibility Analysis is adopted.

It is further ordered that the Commission's Consumer and Governmental Affairs Bureau, Reference Information Center, shall send a copy of this Report and Order, including the Final Regulatory Flexibility Analysis, to the Chief Counsel for Advocacy of the Small Business Administration.

List of Subjects in 47 CFR part 90

Radio.

Federal Communications Commission.
Marlene H. Dortch,
Secretary.

Final Rules

For the reasons discussed in the preamble, the Federal Communications Commission amends 47 CFR part 90 as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), 332(c)(7).

2. Section 90.20 is amended by adding paragraphs (a)(2)(xiv) and (i) to read as follows:

§ 90.20 Public Safety Pool.

* * * * *

(a) * * *

(2) * * *

(xiv)(A) Railroad police officers are a class of users eligible to operate on the nationwide interoperability and mutual aid channels listed in 90.20(i) provided their employer holds a Private Land Mobile Radio (PLMR) license of any radio category, including Industrial/Business (I/B). Eligible users include full and part time railroad police officers, Amtrak employees who qualify as railroad police officers under this subsection, Alaska Railroad employees who qualify as railroad police officers under this subsection, freight railroad employees who qualify as railroad police officers under this subsection, and passenger transit lines police officers who qualify as railroad police officers under this subsection. Railroads and railroad police departments may obtain licenses for the nationwide interoperability and mutual aid channels on behalf of railroad police officers in their employ. Employers of railroad police officers must obtain concurrence from the relevant state interoperability coordinator or regional planning committee before applying for a license to the Federal Communications Commission or operating on the interoperability and mutual aid channels.

(1) Railroad police officer means a peace officer who is commissioned in his or her state of legal residence or state of primary employment and employed, full or part time, by a railroad to enforce state laws for the protection of railroad property, personnel, passengers, and/or cargo.

(2) Commissioned means that a state official has certified or otherwise designated a railroad employee as qualified under the licensing requirements of that state to act as a railroad police officer in that state.

(3) Property means rights-of-way, easements, appurtenant property, equipment, cargo, facilities, and buildings and other structures owned, leased, operated, maintained, or transported by a railroad.

(4) Railroad means each class of freight railroad (i.e. Class I, II, III); Amtrak, Alaska Railroad, commuter railroads and passenger transit lines.

(5) The word state, as used herein, encompasses states, territories and the District of Columbia.

(B) Eligibility for licensing on the 700 MHz narrowband interoperability channels is restricted to entities that have as their sole or principal purpose the provision of public safety services.

* * * * *

(i) Nationwide interoperability channels. The nationwide interoperability and mutual aid channels are listed below for the VHF, (including 220-222 MHz), UHF, 700 MHz and 800 MHz bands. (See §§ 90.20(d)(80), 90.531(b)(1), 90.617(a)(1) and 90.720). Any Part 90 public safety eligible entity holding a Part 90 license may operate hand-held and vehicular mobile units on these channels without needing a separate authorization. Base stations or control stations operating on these channels must be licensed separately: Encryption may not be used on any of the interoperability or mutual aid calling channels.

VHF interoperability channel (MHz) | Purpose
151.1375 MHz (base/mobile) | Tactical.
154.4525 MHz (base/mobile) | Tactical.
155.7525 MHz (base/mobile) | Calling.
158.7375 MHz (base/mobile) | Tactical.
159.4725 MHz (base/mobile) | Tactical.

VHF mutual aid channel (MHz) | Purpose
220.8025 MHz (base/mobile) | Tactical.
220.8075 MHz (base/mobile) | Tactical.
220.8125 MHz (base/mobile) | Tactical.
220.8175 MHz (base/mobile) | Tactical.
220.8225 MHz (base/mobile) | Tactical.
220.8275 MHz (base/mobile) | Tactical.
220.8325 MHz (base/mobile) | Tactical.
220.8375 MHz (base/mobile) | Tactical.
220.8425 MHz (base/mobile) | Tactical.
220.8475 MHz (base/mobile) | Tactical.

UHF interoperability channel (MHz) | Purpose
453.2125 MHz (base/mobile) | Calling.
458.2125 MHz (mobile)
453.4625 MHz (base/mobile) | Tactical.
458.4625 MHz (mobile)
453.7125 MHz (base/mobile) | Tactical.
458.7125 MHz (mobile)
453.8625 MHz (base/mobile) | Tactical.
458.8625 MHz (mobile)

700 MHz interoperability channel (MHz) | Purpose
769.14375 MHz (base/mobile) | Tactical.
799.14375 MHz (mobile)
769.24375 MHz (base/mobile) | Calling.
799.24375 MHz (mobile)
769.39375 MHz (base/mobile) | Tactical.
769.39375 MHz (mobile)
769.49375 MHz (base/mobile) | Tactical.
799.49375 MHz (mobile)
769.64375 MHz (base/mobile) | Tactical.
799.64375 MHz (mobile)
769.74375 MHz (base/mobile) | Tactical.
799.74375 MHz (mobile)
769.99375 MHz (base/mobile) | Tactical.
799.99375 MHz (mobile)
770.14375 MHz (base/mobile) | Tactical.
800.14375 MHz (mobile)
770.24375 MHz (base/mobile) | Tactical.
800.24375 MHz (mobile)
770.39375 MHz (base/mobile) | Tactical.
800.39375 MHz (mobile)
770.49375 MHz (base/mobile) | Tactical.
800.49375 MHz (mobile)
770.64375 MHz (base/mobile) | Tactical.
800.64375 MHz (mobile)
770.89375 MHz (base/mobile) | Tactical.
800.89375 MHz (mobile)
770.99375 MHz (base/mobile) | Tactical.
800.99375 MHz (mobile)
773.00625 MHz (base/mobile) | Tactical.
803.00625 MHz (mobile)
773.10625 MHz (base/mobile) | Tactical.
803.10625 MHz (mobile)
773.25625 MHz (base/mobile) | Calling.
803.25625 MHz (mobile)
773.35625 MHz (base/mobile) | Tactical.
803.35625 MHz (mobile)
773.50625 MHz (base/mobile) | Tactical.
803.50625 MHz (mobile)
773.60625 MHz (base/mobile) | Tactical.
803.60625 MHz (mobile)
773.75625 MHz (base/mobile) | Tactical.
803.75625 MHz (mobile)
773.85625 MHz (base/mobile) | Tactical.
803.85625 MHz (mobile)
774.00625 MHz (base/mobile) | Tactical.
804.00625 MHz (mobile)
774.10625 MHz (base/mobile) | Tactical.
804.10625 MHz (mobile)
774.25625 MHz (base/mobile) | Tactical.
804.25625 MHz (mobile)
774.35625 MHz (base/mobile) | Tactical.
804.35625 MHz (mobile)
774.50625 MHz (base/mobile) | Tactical.
804.50625 MHz (mobile)
774.60625 MHz (base/mobile) | Tactical.
804.60625 MHz (mobile)
774.85625 MHz (base/mobile) | Tactical.
804.85625 MHz (mobile)

800 MHz mutual aid channel (MHz) | Purpose
851.0125 MHz (base/mobile) | Calling.
806.0125 MHz (mobile)
851.5125 MHz (base/mobile) | Tactical.
806.5125 MHz (mobile)
852.0125 MHz (base/mobile) | Tactical.
807.0125 MHz (mobile)
852.5125 MHz (base/mobile) | Tactical.
807.0125 MHz (mobile)
853.0125 MHz (base/mobile) | Tactical.
808.0125 MHz (mobile)

3. Section 90.720 is amended by revising paragraph (a) introductory text, and paragraphs (a)(2) and (b) to read as follows:

§ 90.720 Channels available for public safety/mutual aid.

(a) Part 90 licensees who meet the eligibility criteria of §§ 90.20(a)(1), 90.20(a)(2)(i), 90.20(a)(2)(ii), 90.20(a)(2)(iii), 90.20(a)(2)(iv), 90.20(a)(2)(vii), 90.20(a)(2)(ix), 90.20(a)(2)(xiii) or 90.20(a)(2)(xiv) are authorized by this rule to use mobile and/or portable units on Channels 161-170 throughout the United States, its territories, and the District of Columbia to transmit:

* * * * *

(2) Communications to facilitate interoperability among entities eligible under §§ 90.20(a)(1), 90.20(a)(2)(i), 90.20(a)(2)(ii), 90.20(a)(2)(iii), 90.20(a)(2)(iv), 90.20(a)(2)(vii), 90.20(a)(2)(ix), 90.20(a)(2)(xiii) and 90.20(a)(2)(xiv); or

* * * * *

(b) Any Government entity and any non-Government entity eligible to obtain a license under §§ 90.20(a)(1), 90.20(a)(2)(i), 90.20(a)(2)(ii), 90.20(a)(2)(iii), 90.20(a)(2)(iv), 90.20(a)(2)(vii), 90.20(a)(2)(ix), 90.20(a)(2)(xiii) or 90.20(a)(2)(xiv) is also eligible to obtain a license for base/mobile operations on Channels 161 through 170. Base/mobile or base/portable communications on these channels that do not relate to the immediate safety of life or to communications interoperability among the above-specified entities, may only be conducted on a secondary non-interference basis to such communications.

[FR Doc. 2016-23206 Filed 9-27-16; 8:45 am]

BILLING CODE 6712-01-P